DEPARTMENT OF TRANSPORTATION

Federal Railroad Administration

[Docket Number FRA-2013-0057]

Petition for Waiver of Compliance

In accordance with Part 211 of Title 49 of the Code of Federal Regulations (CFR), this document provides the public notice that by documents dated May 28, 2013, and June 12, 2013, Steam Into History (Steam) has petitioned the Federal Railroad Administration (FRA) for a waiver of compliance from certain provisions of the Federal railroad safety regulations contained at 49 CFR Part 215-Railroad Freight Car Safety Standards. FRA assigned the petition Docket Number FRA-2013-0057.

Specifically, Steam seeks relief from 49 CFR 215.303-Stenciling of restricted cars, which requires that restricted railroad freight cars shall be stenciled or marked in clearly legible letters with the letter “R” and a series of designated terms to completely indicate the basis for the restricted operation of the car.

The petition concerns three leased and two owned freight cars, numbered RERX 101, 213, and 702 and NCR 150 and 840, which are railroad flat cars converted to passenger carriage cars for tourist and excursion railroad service by the addition of seating, superstructures, and steps. Each of the Steam freight cars in the present petition is more than 50 years old, measured from the date of original construction, and the freight cars are the subject of a parallel petition for special approval for continued operation under 215.203(c). Therefore, Steam seeks a waiver of the requirement for stenciling found in 215.303, as the railroad states that the stenciling would detract from both the aesthetic and historical nature of the reproduction vintage rail car equipment. As Steam's passenger equipment will operate in a limited area, Steam requests permission to keep documentation related to the restricted status of the equipment at its business office, similar to the conditions granted to other tourist and excursion railroads. In addition, Steam petitions for relief from all requirements of 49 CFR Part 224—Reflectorization of Rail Freight Rolling Stock, as the railroad states that reflectorization would detract from both the aesthetic and historical nature of the reproduction vintage equipment.

A copy of the petition, as well as any written communications concerning the petition, is available for review online at www.regulations.gov and in person at the Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 16, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-18502 Filed 7-31-13; 8:45 am]

BILLING CODE 4910-06-P